DEPARTMENT OF COMMERCE

Foreign-Trade Zones Board

[B-60-2020]

Foreign-Trade Zone (FTZ) 90—Syracuse, New York; Notification of Proposed Production Activity; PPC Broadband, Inc. (Fiber Optic Cables); Dewitt, New York

PPC Broadband, Inc. (PPC Broadband) submitted a notification of proposed production activity to the FTZ Board for its facility in Dewitt, New York. The notification conforming to the requirements of the regulations of the FTZ Board (15 CFR 400.22) was received on October 8, 2020.

PPC Broadband already has authority to produce hardline coaxial cables within Subzone 90C. The current request would add finished products and foreign status components to the scope of authority. Pursuant to 15 CFR 400.14(b), additional FTZ authority would be limited to the specific foreign-status components and specific finished products described in the submitted notification (as described below) and subsequently authorized by the FTZ Board.

Production under FTZ procedures could exempt PPC Broadband from customs duty payments on the foreign-status materials/components used in export production. On its domestic sales, for the foreign-status materials/components noted below and in the existing scope of authority, PPC Broadband would be able to choose the duty rates during customs entry procedures that apply to fiber optic cables and fiber optic terminated jumpers or patchcords (duty-free). PPC Broadband would be able to avoid duty on foreign-status components which become scrap/waste. Customs duties also could possibly be deferred or reduced on foreign-status production equipment.

The materials/components sourced from abroad include: Tight buffered fibers; aramid yarn, swellcoat blockers or equivalent; polymer pocan polybutylene terephthalate, crastin or equivalent; copper tone wires (0.182 mm); talc—magsil diamond; and, fiber optic connectors (duty rate ranges from duty-free to 8%). The request indicates that aramid yarn and swellcoat blockers or equivalent will be admitted to the zone in privileged foreign status (19 CFR 146.41), thereby precluding inverted tariff benefits on such items. The request also indicates that certain components are subject to duties under Section 301 of the Trade Act of 1974 (Section 301), depending on the country of origin. The applicable Section 301 decisions require subject merchandise to be admitted to FTZs in privileged foreign status.

Public comment is invited from interested parties. Submissions shall be addressed to the Board's Executive Secretary and sent to: ftz@trade.gov. The closing period for their receipt is November 25, 2020.

A copy of the notification will be available for public inspection in the “Reading Room” section of the Board's website, which is accessible via www.trade.gov/ftz.

For further information, contact Christopher Wedderburn at Chris.Wedderburn@trade.gov or (202) 482-1963.

Dated: October 13, 2020.
Andrew McGilvray,
Executive Secretary.

[FR Doc. 2020-22954 Filed 10-15-20; 8:45 am]

BILLING CODE 3510-DS-P